FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

A2B Cargo LLC (OFF), 3509 Vicky Circle NW., Kennesaw, GA 30144. Officer: David R. Ashford, Member (QI). Application Type: New OFF License.

ABF Freight System, Inc. dba ABF International Services dba ABF, Global Supply Chain Services (NVO), 3801 Old Greenwood Road, Fort Smith, AR 72903. Officers: Stephen J. Vicary, Assistant Vice President (QI); Roy M. Slagle, President. Application Type: Delete Trade Names & QI Change.

ASC Global Logistics, Inc. (NVO), 14710 S. Maple Avenue, Gardena, CA 90248. Officer: Suwon Song, CEO (QI). Application Type: New NVO License.

Automax Transport Inc. (NVO & OFF), 232 E. Floral Avenue, Arcadia, CA 91006. Officer: Alex C. Huang, CEO (QI). Application Type: New NVO & OFF License.

Blade Express, Inc. dba BE Logistics dba Core Logistics dba B.E. Logistics, Inc., dba Belogistics (NVO), 12911 Simms Avenue, Hawthorne, CA 90250. Officers: Kathleen Martin, Secretary (QI); Daniel Dvorsky, President. Application Type: Add Trade Name Axis Ocean Logistics.

Caribbean Connection Import/Export Inc. (NVO & OFF), 9999 NW 89th Avenue, Bay 15, Medley, FL 33178. Officers: Marcia Thorpe, President (QI); Michael Thorpe, Vice President. Application Type: Add OFF Service.

Cargoworld Express, LLC dba Cargoworld Express (NVO), 16740 Hedgecroft Drive, Suite 406, Houston, TX 77060. Officers: Ho-Leung Tse, Managing Member (QI); Ivan P. Hong, Managing Member. Application Type: New NVO License.

D & P Wholesale & Distributors, Inc. dba Blue Sea Cargo & Logistics (NVO), 2331 S. Otis Street, Santa Ana, CA 92704. Officer: Thanh V. Phung, Director (QI). Application Type: New NVO License.

EP America Inc. dba Rubik (EP America) Inc. (NVO & OFF), 3340-B Greens Road, Suite 300, Houston, TX 77032. Officers: Nicolas B. Pena, Vice President (QI); Jose M. Garza, President. Application Type: Delete of Trade Name & QI Change.

Expert Log LLC (NVO & OFF), 10540 NW 29TH Terrace, Doral, FL 33172. Officers: Annia Ortiz, Manager (QI); Maria Elizabet, Member. Application Type: QI Change.

Forest City Ocean Freight, LLC (OFF), 8615 E. Lindgren Road, Spokane, WA 99217. Officer: David A. Duer, Managing Director (QI). Application Type: New OFF License.

GP Logistics, Inc. (NVO & OFF), 2315 Landmeier Road, Elk Grove Village, IL 60007. Officers: Lars Kloch, President (QI); Regina March, Vice President. Application Type: QI Change.

GP Logistics, LLC (NVO & OFF), 4980 Beverly Road, Phoeniz, AZ 85044. Officers: Lars Kloch, President (QI); Regina March, Vice President. Application Type: New NVO & OFF License.

Hayek Services, Inc. (OFF), 8530 NW 72nd Street, Miami, FL 33166. Officer: Fransua A. Hayek, President (QI). Application Type: New OFF License.

HT Cargo USA, Inc. (NVO & OFF), 12103 Brookhurst Street, Suite C, Garden Grove, CA 92840. Officers: Tham T. Ho, President (QI); Tuu T. Ho, CFO. Application Type: New NVO & OFF License.

King Cargo Corporation (NVO & OFF), 8399 NW 66th Street, Suite 8 & 9, Miami, FL 33166. Officers: Luis Guilherme Gabiatti, Secretary (QI); Raphael Alves, CEO. Application Type: New NVO & OFF License.

Laft, Inc. (NVO & OFF), 12618 Yukon Avenue, Hawthorne, CA 90250. Officers: John J. Park, Vice President (QI); Tae Won Park, CEO. Application Type: New NVO & OFF License.

NIK Transport, Inc. (NVO & OFF), 17360 Colima Blvd., Suite 161, Rowland Heights, CA 91748. Officers: Freddy I. Kuo, Director (QI); Ling (Stephanie) Fang, Director. Application Type: QI Change.

Rota International, Inc. (NVO), 300 East 93rd Street, Suite #3D, New York, NY 10128. Officers: Hasan S. Akipek, President (QI); Billur O. Akipek, Secretary. Application Type: New NVO License.

Seabridge International, Inc. (NVO & OFF), 800 S. Conkling Street, Baltimore, MD 21224. Officer: Vernon R. Martin, President (QI). Application Type: QI Change.

Sovana Global Logistics, LLC (OFF), 45969 Nokes Boulevard, Suite 175, Dulles, VA 20166. Officers: Anita Knapp, Chief Officer for Maritime Transportation (QI); Varetta Wright, President. Application Type: New OFF License.

Total Freight LLC (OFF), 4454 NW 74 Avenue, Miami, FL 33166. Officers: Brian Contipelli, Managing Member (QI); Roseli G. Contipelli, Managing Member. Application Type: New OFF License.

Transoceanic Projects Development Co., Inc. dba AKL Shipping (NVO & OFF), 18421 Viscount Road, Bldg. 9, Suite 200, Houston, TX 77032. Officers: Leonard P. Headrick, Secretary (QI); Arval D. Headrick, Sr., President. Application Type: QI Change.

Universal Containers, LLC (NVO & OFF), 15821 Ventura Blvd., Suite 540, Encino, CA 91436. Officers: Ajay R. Rathod, Manager (QI); Amir G. Maghami, Member. Application Type: Add Trade Name Unicon Logistics.

Weida Freight System, Inc. dba WFS Global Logistics, Inc. (NVO), 819 West Arbor Vitae Street, Inglewood, CA 90301. Officers: Yongliang (Victor) Wei, President (QI); Maria L. Trujillo, Vice President (QI). Application Type: Additional QI.

Dated: May 16, 2014.
By the Commission.
Karen V. Gregory,
Secretary.

[FR Doc. 2014-11980 Filed 5-22-14; 8:45 am]

BILLING CODE 6730-01-P